ENVIRONMENTAL PROTECTION AGENCY

[FRL 9918-47-Region 2]

Proposed CERCLA Section 122(h) Cost Recovery Settlement for the Hooker Chemical/Ruco Polymer Superfund Site, Located in Hicksville, Town of Oyster Bay, Nassau County, New York

AGENCY: Environmental Protection Agency.

ACTION: Notice; request for public comment.

SUMMARY: In accordance with Section 122(i) of the Comprehensive Environmental Response, Compensation, and Liability Act of 1980, as amended (“CERCLA”), notice is hereby given by the U.S. Environmental Protection Agency (“EPA”), Region II, of a proposed cost recovery settlement agreement pursuant to Section 122(h) of CERCLA, with Occidental Chemical Corporation (“Settling Party”) for the Hooker Chemical/Ruco Polymer Superfund Site (the “Site”), located in Hicksville, Town of Oyster Bay, Nassau County, New York. The Settling Party agrees to pay EPA $722,250 in reimbursement of past response costs related to EPA oversight of response actions performed by the Settling Party at the Site.

The settlement includes a covenant by EPA not to sue or to take administrative action against the Settling party pursuant to Section 107(a) of CERCLA, with regard to the past response costs and future response costs as defined in the settlement agreement. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before November 26, 2014.

ADDRESSES: The proposed settlement is available for public inspection at EPA Region II offices at 290 Broadway, New York, New York 10007-1866. Comments should reference the Hooker Chemical/Ruco Polymer Superfund Site, located in Hicksville, Town of Oyster Bay, Nassau County, New York, Index No. CERCLA-02-2014-2017. To request a copy of the proposed settlement agreement, please contact the EPA employee identified below.

FOR FURTHER INFORMATION CONTACT: Argie Cirillo, Assistant Regional Counsel, New York/Caribbean Superfund Branch, Office of Regional Counsel, U.S. Environmental Protection Agency, 290 Broadway—17th Floor, New York, New York 10007-1866. Telephone: 212-637-3178.

Dated: October 14, 2014.
Walter Mugdan,
Director, Emergency and Remedial Response Division, U.S. Environmental Protection Agency, Region 2.

[FR Doc. 2014-25477 Filed 10-24-14; 8:45 am]

BILLING CODE 6560-50-P